Title 3—

The President

Executive Order 13834 of May 17, 2018

Efficient Federal Operations

By the authority vested in me as President by the Constitution and the laws of the United States of America, it is hereby ordered as follows:

Section 1. Policy. The Congress has enacted a wide range of statutory requirements related to energy and environmental performance of executive departments and agencies (agencies), including with respect to facilities, vehicles, and overall operations. It is the policy of the United States that agencies shall meet such statutory requirements in a manner that increases efficiency, optimizes performance, eliminates unnecessary use of resources, and protects the environment. In implementing this policy, each agency shall prioritize actions that reduce waste, cut costs, enhance the resilience of Federal infrastructure and operations, and enable more effective accomplishment of its mission.

Sec. 2. Goals for Agencies. In implementing the policy set forth in section 1 of this order, the head of each agency shall meet the following goals, which are based on statutory requirements, in a cost-effective manner:

(a) Achieve and maintain annual reductions in building energy use and implement energy efficiency measures that reduce costs;

(b) Meet statutory requirements relating to the consumption of renewable energy and electricity;

(c) Reduce potable and non-potable water consumption, and comply with stormwater management requirements;

(d) Utilize performance contracting to achieve energy, water, building modernization, and infrastructure goals;

(e) Ensure that new construction and major renovations conform to applicable building energy efficiency requirements and sustainable design principles; consider building efficiency when renewing or entering into leases; implement space utilization and optimization practices; and annually assess and report on building conformance to sustainability metrics;

(f) Implement waste prevention and recycling measures and comply with all Federal requirements with regard to solid, hazardous, and toxic waste management and disposal;

(g) Acquire, use, and dispose of products and services, including electronics, in accordance with statutory mandates for purchasing preference, Federal Acquisition Regulation requirements, and other applicable Federal procurement policies; and

(h) Track and, as required by section 7(b) of this order, report on energy management activities, performance improvements, cost reductions, greenhouse gas emissions, energy and water savings, and other appropriate performance measures.

Sec. 3. Implementation and Immediate Actions. (a) The Chairman of the Council on Environmental Quality (CEQ) and the Director of the Office of Management and Budget (OMB) shall coordinate in developing, issuing, and updating, as necessary, requirements and streamlined metrics to assess agency progress in achieving the goals set forth in section 2 of this order.

(b) Within 90 days of the date of this order, the Secretary of Agriculture, Secretary of Energy, Administrator of General Services, and the Administrator of the Environmental Protection Agency (EPA) shall review relevant Government-wide guidance related to energy and environmental performance issued by their respective agencies and shall, in conjunction with CEQ, develop a plan and proposed timeline to modify, replace, or rescind such guidance, as necessary, to facilitate implementation of this order.

(c) Within 120 days of the date of this order, the Secretary of Energy, in coordination with the Secretary of Defense, the Administrator of General Services, and the heads of other agencies as appropriate, shall review existing Federal vehicle fleet requirements and report to the Chairman of CEQ and the Director of OMB regarding opportunities to optimize Federal fleet performance, reduce associated costs, and streamline reporting and compliance requirements.

(d) Within 150 days of the date of this order, the Chairman of CEQ, in coordination with the Director of OMB, shall review and, where needed, revise existing CEQ guidance related to energy and environmental performance, and shall issue instructions for implementation of this order.

Sec. 4. Additional Duties of the Chairman of the Council on Environmental Quality. In implementing the policy set forth in section 1 of this order, the Chairman of CEQ shall:

(a) in coordination with the Director of OMB, continue to oversee the Federal Interagency Sustainability Steering Committee (Steering Committee), which shall continue in effect, and shall advise the Director of OMB and the Chairman of CEQ regarding agency compliance with section 2 of this order; and

(b) issue, as necessary and appropriate and in coordination with the Director of OMB, additional guidance to assist agencies in implementing this order.

Sec. 5. Additional Duties of the Director of the Office of Management and Budget. In implementing the policy set forth in section 1 of this order, the Director of OMB shall:

(a) issue, as necessary and after consultation with the Chairman of CEQ, instructions, directions, and guidance to the heads of agencies concerning evaluation of agency progress and performance related to the implementation of this order; and

(b) prepare periodic scorecards evaluating agency performance and identify additional actions needed to implement this order.

Sec. 6. Duties of the Federal Chief Sustainability Officer. A Federal Chief Sustainability Officer, designated by the President, shall head an Office of Federal Sustainability, which shall be maintained as an interagency environmental project within CEQ, and for which EPA shall provide funding through the Office of Environmental Quality Management Fund, 42 U.S.C. 4375. In implementing the policy set forth in section 1 of this order, the Federal Chief Sustainability Officer shall:

(a) monitor progress and advise the Chairman of CEQ on agency performance and implementation of this order;

(b) lead the development of programs and policies to assist agencies in implementing the goals of this order; and

(c) chair, convene, and preside at meetings and direct the work of the Steering Committee.

Sec. 7. Duties of Heads of Agencies. In implementing the policy set forth in section 1 of this order, the head of each agency shall:

(a) within 45 days of the date of this order, designate an agency Chief Sustainability Officer—who shall be a senior civilian official, compensated annually in an amount at or above the amount payable at level IV of the Executive Schedule—and assign the designated official the authority to perform duties relating to the implementation of this order within the agency; and

(b) report to the Chairman of CEQ and the Director of OMB regarding agency implementation and progress toward the goals of this order and relevant statutory requirements.

Sec. 8. Revocations. Executive Order 13693 of March 19, 2015 (Planning for Federal Sustainability in the Next Decade), is revoked.

Sec. 9. Limitations. (a) This order shall apply only to agency activities, personnel, resources, and facilities that are located within the United States. The head of an agency may provide that this order shall apply in whole or in part with respect to agency activities, personnel, resources, and facilities that are not located within the United States, if the head of the agency determines that such application is in the interest of the United States.

(b) The head of an agency shall manage agency activities, personnel, resources, and facilities that are not located within the United States, and with respect to which the head of the agency has not made a determination under subsection (a) of this section, in a manner consistent with the policy set forth in section 1 of this order, and to the extent the head of the agency determines practicable.

Sec. 10. Exemption Authority. (a) The Director of National Intelligence may exempt an intelligence activity of the United States—and related personnel, resources, and facilities—from the provisions of this order, other than this subsection, to the extent the Director determines necessary to protect intelligence sources and methods from unauthorized disclosure.

(b) The head of an agency may exempt law enforcement activities of that agency, and related personnel, resources, and facilities, from the provisions of this order, other than this subsection, to the extent the head of an agency determines necessary to protect undercover operations from unauthorized disclosure.

(c) The head of an agency may exempt law enforcement, protective, emergency response, or military tactical vehicle fleets of that agency from the provisions of this order, other than this subsection. Heads of agencies shall manage fleets to which this paragraph refers in a manner consistent with the policy set forth in section 1 of this order to the extent they determine practicable.

(d) The head of an agency may exempt particular agency activities and facilities from the provisions of this order, other than this subsection, if it is in the interest of national security. If the head of an agency issues an exemption under this subsection, the agency must notify the Chairman of CEQ in writing within 30 days of issuance of that exemption. To the maximum extent practicable, and without compromising national security, each agency shall strive to comply with the purposes, goals, and implementation steps in this order.

(e) The head of an agency may submit to the President, through the Chairman of CEQ, a request for an exemption of an agency activity, and related personnel, resources, and facilities, from this order.

Sec. 11. General Provisions. (a) Nothing in this order shall be construed to impair or otherwise affect:

(i) the authority granted by law to an executive department or agency, or the head thereof; or

(ii) the functions of the Director of OMB relating to budgetary, administrative, or legislative proposals.

(b) This order shall be implemented in a manner consistent with applicable law and subject to the availability of appropriations.

(c) This order is not intended to, and does not, create any right or benefit, substantive or procedural, enforceable at law or in equity by any party against the United States, its departments, agencies, or entities, its officers, employees, or agents, or any other person.

THE WHITE HOUSE,

May 17, 2018.

[FR Doc. 2018-11101

Filed 5-21-18; 11:15 am]

Billing code 3295-F8-P